DEPARTMENT OF DEFENSE

Department of the Army

[USA-2007-0034]

Proposed Collection; Comment Request

AGENCY: Office of the Administrative Assistant to the Secretary of the Army, (OAA-AAHS), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to U.S. Army Corps of Engineers, 441 G Street, NW., Room 3D72, Washington, DC 20314-1000, or call Department of the Army Reports Clearance Officer at (703) 428-6440.

Title, Associated Form, and OMB Number: Estuary Habitat Restoration Program Project Application; ENG Form 6019-R; OMB Control Number 0710-0014.

Needs and Uses The Corps will solicit applications for estuary habitat restoration projects under section 104 of the Estuary Restoration Act 2000. Requested information will include proposed project location, types and acreage of habitat to be restored, and project description including restoration techniques, project goals and expected benefits, monitoring plan, costs, and other supporting information. Project applications may be submitted either electronically or in paper format. This information is needed to select projects for funding.

Affected Public: State, local, or tribal government and not-for-profit institutions.

Annual Burden Hours: 1,000.

Number of Respondents: 100.

Responses Per Respondent: 1.

Average Burden Per Response: 10 hours.

Frequency: On occasion.

SUPPLEMENTARY INFORMATION:

Summary of Information Collection

Information will be collected by voluntary submission of estuary habitant restoration project via e-mail, or paper submissions that may be accomplished by computer disk by regular mail or hand delivery. Supplemental information may also be collected via phone interviews.

Dated: December 19, 2007.
Patricia L. Toppings,
Alternate OSD Federal Register Liaison Officer, Department of Defense.

[FR Doc. E7-25167 Filed 12-27-07; 8:45 am]

BILLING CODE 5001-06-P